DEPARTMENT OF TRANSPORTATION

Office of the Secretary of Transportation

[Docket No.: DOT-OST-2025-1194]

Beautifying Transportation Infrastructure Council

AGENCY: Office of the Secretary of Transportation (OST), U.S. Department of Transportation (DOT).

ACTION: Notice—Establishment of the Beautifying Transportation Infrastructure Council (BTIC) and solicitation of nominations for membership.

SUMMARY: The Department announces the establishment of the Beautifying Transportation Infrastructure Council, which will advise the Secretary of Transportation on enhancing the aesthetic value of our Nation's transportation systems. In addition, the Department is soliciting nominations for membership of the Council.

DATES: The deadline for nominations for Council members must be received on or before November 21, 2025.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal holidays.

FOR FURTHER INFORMATION CONTACT: Beautifying Transportation Infrastructure Council Designated Federal Officer, c/o Julianne Schwarzer, Acting Director of Environment and Permitting, Office of the Assistant Secretary for Transportation Policy, Office of the Secretary, BeautifyTransportation@dot.gov or 617-999-9667.

SUPPLEMENTARY INFORMATION: American infrastructure should be used to inspire and uplift American citizens. The Department announces the establishment of the Beautifying Transportation Infrastructure Council. The purpose of the Council is to advise the Secretary of Transportation on enhancing the aesthetic value of our Nation's transportation systems.

In particular, the Council provides recommendations on policies, designs, and funding priorities that beautify transportation infrastructure, including highways, bridges, and transit hubs, while maintaining safety and efficiency. The Council identifies best practices, develops aesthetic performance metrics, and advises on projects that enhance public spaces and reflect local character. The Council will be continuing, but subject to renewal every two years. The Council is expected to meet biannually. The Secretary may create subcommittees to work on specific tasks. Unless otherwise required by law or approved by the Secretary, all meetings will be held virtually (or in a hybrid forum that does not require additional use of Federal funds).

In this notice, the Department is also soliciting nominations for membership to the Council. The Council shall report to the Secretary and comprise up to 11 members, including architects, landscape designers, urban planners, artists, transportation engineers, historic preservation and other community advocates, and representatives from State, local, and Tribal governments. The Council may also include the current and former Chairs of the U.S. Commission of Fine Arts and the Chief Architect of the U.S. General Services Administration. Members will serve two-year terms but may be reappointed. The Department seeks to appoint members who will reflect a fair balance in terms of the points of view and professional backgrounds represented and the functions to be performed by the Council. No single interest group will hold a majority. Members appointed solely for their expertise will serve as Special Government Employees.

Process and Deadline for Submitting Nominations: Qualified individuals can self-nominate or be nominated by any individual or organization. To be considered for the Council, nominators should submit the following information:

(1) Name, title, and relevant contact information (including phone, fax, and email address) of the individual requesting consideration;

(2) A letter of support from a company, union, trade association, academic or nonprofit organization on letterhead containing a brief description why the nominee should be considered for membership;

(3) Short biography of the nominee, including professional and academic credentials;

(4) An affirmative statement that the nominee meets all Council eligibility requirements.

Please do not send company, trade association, or organization brochures or any other information. Materials submitted should total two pages or less. Should more information be needed, DOT staff will contact the nominee, obtain information from the nominee's past affiliations, or obtain information from publicly available sources, such as the internet.

Nominations must be received before November 21, 2025. Nominees selected for appointment to the Council will be notified by return email and by a letter of appointment.

Issued in Washington, DC, on October 17, 2025.
Loren A. Smith, Jr.,
Deputy Assistant Secretary for Transportation Policy.

[FR Doc. 2025-19622 Filed 10-20-25; 8:45 am]

BILLING CODE 4910-9X-P